DEPARTMENT OF COMMERCE

National Oceanic and Atmospheric Administration

RIN 0648-XD825

Marine Mammals; File Nos. 17278 and 17557

AGENCY: National Marine Fisheries Service (NMFS), National Oceanic and Atmospheric Administration (NOAA), Commerce.

ACTION: Notice; issuance of permit amendments.

SUMMARY: Notice is hereby given that major amendments have been issued to James Shine, Ph.D., Harvard University School of Public Health, 401 Park Drive, 404H West, Boston, Massachusetts 02215, (Permit No. 17278-01) and the NMFS Forensics Office, 219 Fort Johnson Road, Charleston, SC 29412 (Permit No. 17557-01).

ADDRESSES: The permit amendments and related documents are available for review upon written request or by appointment in the Permits and Conservation Division, Office of Protected Resources, NMFS, 1315 East-West Highway, Room 13705, Silver Spring, MD 20910; phone (301) 427-8401; fax (301) 713-0376.

FOR FURTHER INFORMATION CONTACT: Jennifer Skidmore, Amy Sloan, or Malcolm Mohead, (301) 427-8401.

SUPPLEMENTARY INFORMATION: On March 20, 2015, notice was published in the Federal Register (80 FR 14907) that requests for amendments to Permit Nos. 17278 and 17557 to import specimens from long-finned pilot whales (Globicephala melas; 17278) and scalloped hammerhead sharks (Sphyrna lewinia; 17557) for scientific research had been submitted by the above-named applicants. The requested permit amendments have been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Permit No. 17278 authorizes Dr. Shine to import and receive parts from subsistence-collected long-finned pilot whales (Globicephala melas) archived at the Faroese Museum of Natural History, Faroe Islands. The permit, as amended, increases the number of samples authorized to be imported from 15 to 100 animals annually, as well as authorization to conduct analyses of chlorinated and fluorinated organic chemicals using the same samples.

Permit No. 17557 authorizes the NMFS Forensics Office to receive, import, export, transfer, archive, and conduct analyses on marine mammal and ESA-listed species parts under NMFS jurisdiction. The permit has been amended to include scalloped hammerhead sharks (Sphyrna lewinia) recently listed under the ESA.

In compliance with the National Environmental Policy Act of 1969 (42 U.S.C. 4321 et seq.), a final determination has been made that the activity proposed is categorically excluded from the requirement to prepare an environmental assessment or environmental impact statement.

As required by the ESA, issuance of the permit amendment (Permit No. 17557-01) was based on a finding that such permit: (1) Was applied for in good faith; (2) will not operate to the disadvantage of such endangered species; and (3) is consistent with the purposes and policies set forth in section 2 of the ESA.

Dated: June 26, 2015.
Julia Harrison,
Chief, Permits and Conservation Division, Office of Protected Resources, National Marine Fisheries Service.

[FR Doc. 2015-16781 Filed 7-8-15; 8:45 am]

BILLING CODE 3510-22-P